DEPARTMENT OF THE INTERIOR

Bureau of Reclamation

Agency Information Collection; Activities Under OMB Review; Comment Request

AGENCY: Bureau of Reclamation, Interior.

ACTION: Notice of renewal of a currently approved collection (OMB No. 1006-0014).

SUMMARY: In accordance with the Paperwork Reduction Act of 1995, the Bureau of Reclamation (Reclamation) has forwarded the following Information Collection Request (ICR) to the Office of Management and Budget (OMB) for review and approval: Lower Colorado River Well Inventory, OMB Control Number: 1006-0014.

DATES: Comments on this notice must be received by March 27, 2009.

ADDRESSES: You may send written comments to the Desk Officer for the Department of the Interior at the Office of Management and Budget, Office of Information and Regulatory Affairs, via facsimile to (202) 395-6566, or e-mail to OIRA_DOCKET@omb.eop.gov. A copy of your comments should also be directed to the Bureau of Reclamation, Attention: BCOO-4200, P.O. Box 61470, Boulder City, NV 89006.

FOR FURTHER INFORMATION CONTACT: Ruth Thayer, Group Manager, Boulder Canyon Operations Office, Bureau of Reclamation, 702-293-8426.

SUPPLEMENTARY INFORMATION: Title: Lower Colorado River Well Inventory.

OMB No.: OMB No. 1006-0014.

Abstract: Pursuant to the Boulder Canyon Project Act (Pub. L. 70-642, 45 Stat. 1057), all diversions of mainstream Colorado River water must be in accordance with a Colorado River water entitlement. The Consolidated Decree of the United States Supreme Court in Arizona v. California, 547 U.S. 150 (2006) requires the Secretary of the Interior to account for all diversions of mainstream Colorado River water along the lower Colorado River, including water drawn from the mainstream by underground pumping. To meet the water entitlement and accounting obligations, an inventory of wells and river pumps is required along the lower Colorado River, and the gathering of specific information concerning these wells and river pumps.

Description of respondents: The respondents will include well and river-pump owners and operators along the lower Colorado River in Arizona, California, and Nevada. Each well and river pump owner or operator must be identified, as well as the location of their diversion and type of water use determined.

Frequency: These data are collected only once for each well or river-pump owner or operator as long as changes in water use, or other changes that would impact contractual or administrative requirements, are not made. A respondent may request that the data for their well or river pump be updated after the initial inventory.

Estimated completion time: An average of 20 minutes is required to interview individual well and river-pump owners or operators. Reclamation will use the information collected during these interviews to complete the information collection form.

Annual responses: 1,500.

Annual burden hours: 500 hours.

Comments:

Reclamation invites your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. Reclamation will display a valid OMB control number on the Lower Colorado River Well Inventory, OMB Control Number: 1006-0014.

A Federal Register notice with a 60-day comment period soliciting comments on this collection of information was published in the Federal Register (73 FR 74749, December 9, 2008). No public comments were received. This notice is a final opportunity to comment on the collection of information as requested in items (a)-(d) listed above.

OMB has up to 60 days to approve or disapprove this information collection, but may respond after 30 days; therefore, public comment should be submitted to OMB within 30 days in order to assure maximum consideration.

Before including your address, telephone number, e-mail address, or other personal identifying information in your comment, you should be aware that your entire comment (including your personal identifying information) may be made publicly available at any time. While you can ask us in your comment to withhold your personal identifying information from public review, we cannot guarantee that we will be able to do so.

Dated: February 13, 2009.
Steven C. Hvinden,
Area Manager, Boulder Canyon Operations Office, Lower Colorado Region, Bureau of Reclamation.

[FR Doc. E9-4007 Filed 2-24-09; 8:45 am]

BILLING CODE 4310-MN-P